ENVIRONMENTAL PROTECTION AGENCY

40 CFR Part 80

[EPA-HQ-OAR-2019-0168; FRL-9999-00-OAR]

Section 610 Review of “Regulation of Fuels and Fuel Additives: Changes to Renewable Fuel Standard Program”; Extension of Comment Period

AGENCY: Environmental Protection Agency (EPA).

ACTION: Notification of extension of public comment period.

SUMMARY: On May 22, 2019, the U.S. Environmental Protection Agency (“EPA”) published an entry in the Spring 2019 Unified Agenda of Regulatory and Deregulatory Actions announcing that EPA will review the rulemaking “Regulation of Fuels and Fuel Additives: Changes to Renewable Fuel Standard Program” pursuant to section 610 of the Regulatory Flexibility Act. The purpose of this review is to determine if the provisions that could affect small entities should be continued without change, should be rescinded, or amended to minimize adverse economic impacts on small entities. The entry invited public comment on this proposal via the established docket on Regulations.gov by August 22, 2019—90 days after publication of the Spring 2019 Unified Agenda of Regulatory and Deregulatory Actions. On August 15, 2019, EPA received a request from the Small Refiners Coalition to extend the comment period by 30 days to allow its members to provide thorough comments and data. On August 16, 2019, EPA received a similar request from the Small Retailers Coalition. EPA is extending the deadline for written comments an additional 30 days to September 23, 2019.

DATES: Comments must be received on or before September 23, 2019.

ADDRESSES: You may send your comments, identified by Docket ID No. EPA-HQ-OAR-2019-0168, by any of the following methods:

• Federal eRulemaking Portal: http://www.regulations.gov (our preferred method) Follow the online instructions for submitting comments.

• Mail: U.S. Environmental Protection Agency, EPA Docket Center, Office of Air and Radiation Docket, Mail Code 28221T, 1200 Pennsylvania Avenue NW, Washington, DC 20460.

• Hand Delivery/Courier: EPA Docket Center, WJC West Building, Room 3334, 1301 Constitution Avenue NW, Washington, DC 20004. The Docket Center's hours of operations are 8:30 a.m.-4:30 p.m., Monday-Friday (except Federal Holidays).

Instructions: Submit your comments on EPA's section 610 review referenced above, identified by Docket ID No. EPA-HQ-OAR-2019-0168, at http://www.regulations.gov (our preferred method), or the other methods identified above. Once submitted, comments cannot be edited or removed from the docket. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit http://www.epa.gov/dockets/commenting-epa-dockets.

FOR FURTHER INFORMATION CONTACT: Jessica Mroz, Office of Transportation and Air Quality, Environmental Protection Agency, 1200 Pennsylvania Avenue NW, Washington, DC 20460; telephone number: 202-564-1094; email address: mroz.jessica@epa.gov.

SUPPLEMENTARY INFORMATION: The EPA rulemaking that is the subject of this review was published on March 26, 2010, at 75 FR 14670. For the reasons noted above, the public comment period for this review will now end on September 23, 2019.

Dated: August 20, 2019.
Sarah Dunham,
Director, Office of Transportation and Air Quality.

[FR Doc. 2019-18435 Filed 8-26-19; 8:45 am]

BILLING CODE 6560-50-P